DEPARTMENT OF DEFENSE

Department of the Navy

Notice of Intent To Grant Partially Exclusive Patent License; Elemental Wireless, LLC

AGENCY: Department of the Navy, DoD.

ACTION: Notice.

SUMMARY: The Department of the Navy hereby gives notice of its intent to grant to Elemental Wireless, LLC, a revocable, nonassignable, partially exclusive license in the United States to practice the Government-Owned inventions described in U.S. Patent No. 5,062,083: PING ELONGATOR-MODULATOR FOR REALISTIC ECHO SYNTHESIS, issue date October 29, 1991.//U.S. Patent No. 5,073,784: TRANSMITTER LOCATION SYSTEM FOR FREQUENCIES BELOW Hf, issue date December 17, 1991.//U.S. Patent No. 5,264,693: MICROELECTRONIC PHOTOMULTIPLIER DEVICE WITH INTEGRATED CIRCUITRY, issue date November 23, 1993.//U.S. Patent No. 5,272,476: DATA ACQUISITION SYSTEM HAVING NOVEL, LOW POWER CIRCUIT FOR TIME- DIVISION- MULTIPLEXING SENSOR ARRAY SIGNALS, issue date December 21, 1993.//U.S. Patent No. 5,276,695: MULTIFREQUENCY, RAPIDLY SEQUENCED OR SIMULTANEOUS TUNABLE LASER, issue date January 4, 1994.//U.S. Patent No. 5,285,467: COMPACT, EFFICIENT, SCALABLE NEODYMIUM LASER CO-DOPED WITH ACTIVATOR IONS AND PUMPED BY VISIBLE LASER DIODES, issue date February 8, 1994.//U.S. Patent No. 5,306,904: MULTILAYER MICROELECTRONIC PHOTOMULTIPLIER DEVICE WITH A STACKED SERIES OF DYNODE AND INSULATING LAYERS, issue date April 26, 1994.//U.S. Patent No. 5,310,989: METHOD FOR LASER-ASSISTED ETCHING OF III-V AND II-VI SEMICONDUCTOR COMPOUNDS USING CHLOROFLUOROCARBON AMBIENTS, issue date May 10, 1994.//U.S. Patent No. 5,310,990: METHOD OF LASER PROCESSING FERROELECTRIC MATERIALS, issue date May 10, 1994.//U.S. Patent No. 5,341,463: SELECTIVE POLYGON MAP DISPLAY METHOD, issue date August 23, 1994.//U.S. Patent No. 5,475,802: SELECTIVE POLYGON MAP DISPLAY METHOD, issue date December 12, 1995.//U.S. Patent No. 5,648,940: PULSE CODED SONAR HAVING IMPROVED DOPPLER DETERMINATION FEATURE, issue date July 15, 1997.//U.S. Patent No. 5,736,950: SIGMA-DELTA MODULATOR WITH TUNABLE SIGNAL PASSBAND, issue date April 7, 1998.//U.S. Patent No. 5,737,347: LASER WITH MULTIPLE GAIN ELEMENTS, issue date April 7, 1998.//U.S. Patent No. 5,754,496: DETECTOR EMPLOYING LOGIC CIRCUITRY FOR THE SELECTIVE SCREENING OF SIGNALS (U), issue date May 19, 1998.//U.S. Patent No. 5,757,867: DIGITAL MIXING TO BASEBAND DECIMATION FILTER, issue date May 26, 1998.//U.S. Patent No. 5,760,722: DISTRIBUTED QUANTIZATION NOISE TRANSMISSION ZEROS IN CASCADED SIGMA-DELTA MODULATORS, issue date June 2, 1998.//U.S. Patent No. 5,764,677: LASER DIODE POWER COMBINER, issue date June 9, 1998.//U.S. Patent No. 5,789,961: NOISE- AND COUPLING-TUNED SIGNAL PROCESSOR WITH ARRAYS OF NONLINEAR DYNAMIC ELEMENTS, issue date August 4, 1998.//U.S. Patent No. 5,805,635: SECURE COMMUNICATION SYSTEM, issue date September 8, 1998.//U.S. Patent No. 5,892,765: SYSTEM AND METHOD FOR EFFECTUATING COMMUNICATIONS BETWEEN NETWORKS OPERATING ASYNCHRONOUSLY WITH RESPECT TO ONE ANOTHER, issue date April 6, 1999.//U.S. Patent No. 6,008,642: STOCHASTIC RESONANCE DETECTOR FOR WEAK SIGNALS, issue date December 28, 1999.//U.S. Patent No. 6,040,801: LOW DUTY CYCLE NAVIGATION SYSTEM, issue date March 21, 2000.//U.S. Patent No. 6,052,100: COMPUTER CONTROLLED THREE-DIMENSIONAL VOLUMETRIC DISPLAY, issue date April 18, 2000.//U.S. Patent No. 6,061,821: CONTEXT BASED ERROR DETECTION AND CORRECTION FOR BINARY ENCODED TEXT MESSAGES, issue date May 9, 2000.//U.S. Patent No. 6,067,448: SYSTEM AND METHOD FOR ISOLATING RADIO FREQUENCY SIGNALS, issue date May 23, 2000.//U.S. Patent No. 6,133,865: Cw CONVERTER CIRCUIT, issue date October 17, 2000.//U.S. Patent No. 6,137,609: OVER-THE-HORIZON OPTICAL COMMUNICATIONS TRANSCEIVER, issue date October 24, 2000.//U.S. Patent No. 6,138,572: THREE-BEAM PASSIVE INFRARED GUIDED MISSILE FUSE (U), issue date October 31, 2000.//U.S. Patent No. 6,166,680: RANGE DEPENDENT TIME DELAY TARGET DETECTING DEVICE, issue date December 26, 2000.//U.S. Patent No. 6,177,913: VOLUMETRIC DISPLAY, issue date January 23, 2001.//U.S. Patent No. 6,198,425: PULSE DOPPLER TARGET DETECTING DEVICE, issue date March 6, 2001.//U.S. Patent No. 6,229,847: SIGNAL QUALITY MEASUREMENT DEVICE, issue date May 8, 2001.//U.S. Patent No. 6,232,931: OPTO-ELECTRONICALLY CONTROLLED FREQUENCY SELECTIVE SURFACE, issue date May 15, 2001.//U.S. Patent No. 6,342,866: WIDEBAND ANTENNA SYSTEM, issue date January 29, 2002.//U.S. Patent No. 6,395,435: PHOTO-LITHOGRAPHIC MASK HAVING TOTAL INTERNAL REFLECTIVE SURFACES, issue date May 28, 2002.//U.S. Patent No. 6,404,038: COMPLEMENTARY VERTICAL BIPOLAR JUNCTION TRANSISTORS FABRICATED OF SILICON- ON-SAPPHIRE UTILIZING WIDE BASE Pnp TRANSISTORS, issue date June 11, 2002.//U.S. Patent No. 6,414,305: AUTOMATED SYSTEM FOR DETERMINING MINIMUM RESOLVABLE TEMPERATURE DIFFERENCES, issue date July 2, 2002.//U.S. Patent No. 6,437,890: LASER COMMUNICATIONS LINK, issue date August 20, 2002.//U.S. Patent No. 6,448,941: METHOD FOR SECURE COMMUNICATIONS USING SPIRAL ANTENNAS, issue date September 10, 2002.//U.S. Patent No. 6,459,745: FREQUENCY/TIMING RECOVERY CIRCUIT FOR ORTHOGONAL FREQUENCY DIVISION MULTIPLEXED SIGNALS, issue date October 1, 2002.//U.S. Patent No. 6,466,184: THREE DIMENSIONAL VOLUMETRIC DISPLAY, issue date October 15, 2002.//U.S. Patent No. 6,507,252: HIGH REJECTION EVANESCENT MIC MULTIPLEXERS FOR MULTIFUNCTIONAL SYSTEMS, issue date January 14, 2003.//U.S. Patent No. 6,525,325 SYSTEM FOR QUANTIFYING THE HYDROCARBON CONTENT OF AQUEOUS MEDIA, issue date February 25, 2003.//U.S. Patent No. 6,549,560: COMB LIMITER COMBINER FOR FREQUENCY-HOPPED COMMUNICATIONS, issue date April 15, 2003.//U.S. Patent No. 6,584,300: OBJECT-ORIENTED SYSTEM FOR SIMULATING SONAR TARGET ACOUSTIC SCATTERING, issue date June 24, 2003.//U.S. Patent No. 6,619,866: DYNAMIC RANGE EXTENDED FOR OPTICAL TRANSMITTERS, issue date September 16, 2003.//U.S. Patent No. 6,622,092: PREDICTOR FOR OPTIMAL BROADBAND IMPEDANCE MATCHING, issue date September 16, 2003.//U.S. Patent No. 6,625,896: ELECTROLYTIC TILT SENSOR AND METHOD FOR MANUFACTURING SAME, issue date September 30, 2003.//U.S. Patent No. 6,631,156: DIGITAL DATA COMMUNICATIONS SYSTEM, issue date October 7, 2003.//U.S. Patent No. 6,661,566: METHOD AND OPTICAL SWITCH FOR ALTERING AN ELECTROMAGNETIC ENERGY WAVE IN RESPONSE TO ACCELERATION FORCES, issue date December 9, 2003.//U.S. Patent No. 6,671,304: AMPLITUDE-MODULATED LASER FOR HIGH-BANDWIDTH COMMUNICATIONS SYSTEMS, issue date December 30, 2003.//U.S. Patent No. 6,710,737: CALIBRATOR FOR RADAR TARGET SIMULATOR, issue date March 23, 2004.//U.S. Patent No. 6,727,941: UNIVERSAL DIGITAL CAMERA CONTROLLER WITH AUTOMATIC IRIS TUNING, issue date April 27, 2004.//U.S. Patent No. 6,753,994: SPATIALLY CONFORMABLE TUNABLE FILTER, issue date June 22, 2004.//U.S. Patent No. 6,782,063: AUTOMATIC GAIN CONTROL, issue date August 24, 2004.//U.S. Patent No. 6,784,670: DUAL CHAMBERED ANECHOIC CHAMBER, issue date August 31, 2004.//U.S. Patent No. 6,802,132: ELECTROLYTIC TILT SENSOR AND METHOD FOR MANUFACTURING SAME, issue date October 12, 2004.//U.S. Patent No. 6,822,522: METHOD AND APPARATUS FOR AN IMPROVED NONLINEAR OSCILLATOR, issue date November 23, 2004.//U.S. Patent No. 6,842,013: METHOD FOR MAKING TRANSMISSION MEASUREMENTS IN A DUAL-CHAMBERED ANECHOIC CHAMBER USING SPATIAL AVERAGING, issue date January 11, 2005.//U.S. Patent No. 6,925,136: SIMULTANEOUS FREQUENCY AND PHASE SYNCHRONIZER, issue date August 2, 2005.//U.S. Patent No. 6,943,358: METHOD FOR DEVELOPING A CALIBRATION ALGORITHM FOR QUANTIFYING THE HYDROCARBON CONTENT OF AQUEOUS MEDIA, issue date September 13, 2005.//U.S. Patent No. 6,947,504: FREQUENCY SYNCHRONIZER, issue date September 20, 2005.//U.S. Patent No. 6,948,388: WIRELESS REMOTE SENSOR, issue date September 27, 2005.//U.S. Patent No. 6,958,466: METHOD AND SYSTEM FOR DETECTING TARGETS KNOWN UP TO A SIMPLEX FROM MULTI-SPECTRAL AND HYPER-SPECTRAL IMAGERY EMPLOYING THE NORMAL COMPOSITIONAL MODEL, issue date October 25, 2005.

DATES: Anyone wishing to object to the grant of this license must file written objections along with supporting evidence, if any, not later than July 20, 2006.

ADDRESSES: Written objections are to be filed with the Office of Research and Technology Applications, Space and Naval Warfare Systems Center, Code 2112, 83570 Silvergate Ave., Room 2306, San Diego, CA 92152-5048.

FOR FURTHER INFORMATION CONTACT: Dr. Stephen H. Lieberman, Office of Research and Technology Applications, Space and Naval Warfare Systems Center, Code 2112, 83570 Silvergate Ave., Room 2306, San Diego, CA 92152-5048, telephone 619-553-2778 or E-Mail stephen.lieberman@navy.mil.

(Authority: 35 U.S.C. 207, 37 CFR part 404.)

Dated: June 22, 2006.
M. A. Harvison,
Lieutenant Commander, Judge Advocate General's Corps, U.S. Navy, Federal Register Liaison Officer.

[FR Doc. E6-10431 Filed 7-3-06; 8:45 am]

BILLING CODE 3810-FF-P